DEPARTMENT OF HOMELAND SECURITY

Federal Emergency Management Agency

[Docket ID: FEMA-2007-0008]

National Advisory Council

AGENCY: Federal Emergency Management Agency, Department of Homeland Security.

ACTION: Committee management; request for applicants for appointment to the National Advisory Council.

SUMMARY: The Federal Emergency Management Agency (FEMA) requests that qualified individuals interested in serving on the FEMA National Advisory Council (NAC) apply for appointment as identified in this notice. Pursuant to the Post-Katrina Emergency Management Reform Act of 2006 (PKEMRA), the NAC advises the FEMA Administrator on all aspects of emergency management to incorporate input from and ensure coordination with State, local, Tribal, and territorial governments, and the non-governmental and private sectors on developing and revising national plans and strategies, the administration of and assessment of FEMA's grant programs, and the development and evaluation of risk assessment methodologies. The NAC consists of up to thirty-five (35) members, all of whom are experts and leaders in their respective fields. FEMA seeks to appoint individuals to seven (7) discipline-specific positions on the NAC and up to four (4) members as Administrator Selections. If other positions open during the application and selection period, FEMA may select qualified candidates from the pool of applications.

DATES: FEMA will accept applications until 11:59 p.m. Eastern Time on March 12, 2021.

ADDRESSES: Please submit application packages via email to FEMA-NAC@fema.dhs.gov. Save materials in one file using the naming convention, “Last Name_First Name_NAC Application” and attach to the email. The Office of the National Advisory Council will send you an email that confirms receipt of your application and will notify you of the final status of your application once FEMA selects new members.

FOR FURTHER INFORMATION CONTACT: Rob Long, Designated Federal Officer, Office of the National Advisory Council, Federal Emergency Management Agency, 500 C Street SW, Washington, DC 20472-3184; telephone (202) 646-2700; email FEMA-NAC@fema.dhs.gov. For more information on the NAC, including membership application instructions, visit https://www.fema.gov/national-advisory-council.

SUPPLEMENTARY INFORMATION: The NAC is an advisory committee established in accordance with the provisions of the Federal Advisory Committee Act (FACA), 5 U.S.C. Appendix. As required by PKEMRA, the Secretary of Homeland Security established the NAC to ensure effective and ongoing coordination of Federal preparedness, protection, response, recovery, and mitigation for natural disasters, acts of terrorism, and other man-made disasters. FEMA is requesting that individuals who are interested in and qualified to serve on the NAC apply for appointment to an open position in one of the following discipline areas: Cybersecurity (Special Government Employee (SGE)); Communications (SGE); In-Patient Medical Providers (SGE); Elected Local Officials (Representative); Emergency Management (Representative); and two open positions for Emergency Response Providers (Representatives). The Administrator may appoint up to four (4) additional candidates to serve as FEMA Administrator Selections (as SGE appointments). Please visit https://www.fema.gov/membership-applications for further information on expertise required to fill these positions. Appointments will be for three-year terms commencing December 2021.

The NAC Charter contains more information and can be found at: https://www.fema.gov/media-library/assets/documents/35316.

If you are interested, qualified, and would like to be considered for appointment to the NAC, please submit an application package to the Office of the NAC as listed in the ADDRESSES section of this notice. The NAC does not provide a formal application form; however, each electronic application package MUST include the following information:

• Cover letter, addressed to the Office of the NAC, that includes or indicates: Current position title and employer or organization you represent, home and work addresses, and preferred telephone number and email address; the discipline area position(s) for which you are qualified; why you are interested in serving on the NAC; and how you heard about the solicitation for NAC members;

• A summary of the most important accomplishments that qualify you to serve on the NAC, in the form of three to five (3-5) bullets in less than 75 words total;

• Resume or Curriculum Vitae (CV); and

• One Letter of Recommendation addressed to the Office of the NAC.

Your application package must be less than eight (8) pages to be considered by FEMA. Information contained in your application package should indicate clearly your qualifications to serve on the NAC and fill one of the current open positions. FEMA will not consider incomplete applications. FEMA will review the information contained in application packages and make selections based on: (1) Leadership attributes; (2) emergency management experience; (3) expert knowledge in discipline area; and (4) ability to meet NAC member expectations. FEMA will also consider overall NAC composition, including geographic diversity and mix of officials, emergency managers, and emergency response providers from state, local, and tribal governments, when selecting members.

Appointees may be designated as an SGE as defined in section 202(a) of title 18, U.S.C., as a Representative member, or as an RGE. SGEs speak in a personal capacity as experts in their field and Representative members speak for the stakeholder group they represent. Candidates selected for appointment as SGEs are required to complete a new entrant Confidential Financial Disclosure Form (Office of Government Ethics (OGE) Form 450) each year. You can find this form at the Office of Government Ethics website (http://www.oge.gov). However, please do not submit this form with your application.

The NAC generally meets in person twice per year. FEMA does not pay NAC members for their time, but may reimburse travel expenses such as airfare, per diem to include hotel stays, and other transportation costs within federal travel guidelines when pre-approved by the Designated Federal Officer. NAC members must serve on one of the three NAC Subcommittees, which meet regularly by teleconference. FEMA estimates the total time commitment for subcommittee participation to be two (2) hours per week (more for NAC leadership).

DHS does not discriminate on the basis of race, color, religion, sex, national origin, sexual orientation, gender identity, marital status, political affiliation, disability and genetic information, age, membership in an employee organization, or other non-merit factor. DHS strives to achieve a widely diverse candidate pool for all of its recruitment actions. Current DHS and FEMA employees, including FEMA Reservists, are not eligible for membership. Federally registered lobbyists may apply for positions designated as Representative appointments but are not eligible for positions that are designated as SGE appointments.

MaryAnn Tierney,
Acting Deputy Administrator, Federal Emergency Management Agency.

[FR Doc. 2021-03060 Filed 2-12-21; 8:45 am]

BILLING CODE 9111-48-P